DEPARTMENT OF THE INTERIOR

National Park Service

[NPS-IMR-CARE-17202; PPWONRADE2, PMP00EI05.YP0000]

Environmental Impact Statement for a Livestock Grazing and Trailing Management Plan at Capitol Reef National Park, Utah

AGENCY: National Park Service, Interior.

ACTION: Notice of intent.

SUMMARY: The National Park Service (NPS) is preparing an Environmental Impact Statement for a Livestock Grazing and Trailing Management Plan (plan/EIS) for Capitol Reef National Park, Utah.

DATES: Interested individuals, organizations, and agencies are encouraged to provide written comments regarding the scope of issues to be addressed in the plan/EIS. To be most helpful to the planning process, the NPS requests comments be submitted by May 15, 2015. The NPS intends to hold public open house meetings on the Livestock Grazing and Trailing Management Plan EIS in Torrey, Utah, in Hanksville, Utah, and via webinar during this scoping period. Specific dates, times, and locations will be made available via a press release to local media, a public scoping newsletter to be mailed or emailed to interested parties, and on the NPS's Planning, Environment and Public Comment (PEPC) Web site at http://parkplanning.nps.gov/care_lgtmp _eis. The NPS will provide additional opportunities for the public to offer written comments upon publication of the draft EIS.

ADDRESSES: Information will be available for public review online at http://parkplanning.nps.gov/care_lgtmp_eis; and in the Capitol Reef National Park offices at 52 W. Headquarters Drive, Torrey, UT 84775.

FOR FURTHER INFORMATION CONTACT: Contact Terry Fisk, Capitol Reef National Park Chief Resource Management and Science, or Leah McGinnis, Capitol Reef National Park Superintendent, at HC 70 Box 15, Torrey, UT 84775, or by telephone at (435) 425-4100.

SUPPLEMENTARY INFORMATION: The fundamental purpose of the national park system is the conservation of our nation's natural and cultural heritage on park lands for the enjoyment of current and future generations. In some cases, Congress has mandated or authorized the continuation of pre-existing uses on park lands in the legislation establishing or authorizing a park unit, while still recognizing that the National Park Service (NPS) must manage such uses consistent with its overarching conservation mission.

This conservation mission extends to all units of the national park system, including Capitol Reef National Park (Park), where Congress directed the Secretary of the Interior, to allow certain activities to continue on park lands under Public Law 92-207 and 100-446. Currently, two of the 19 livestock grazing permits that existed prior to the establishment of the Park—the Hartnet and Sandy 3 allotments—are still active. In addition, eight pre-existing stock trails used by 7 permittees still cross the Park: Jones Bench, Grey Bench/Cathedral Valley, Highway 24, Oak Creek, Pleasant Creek, Notom Road, Divide Canyon and Dry Bench. The legislation for the park directs that livestock grazing permittees who legally used park lands when the Park was established may continue the practice during their lifetimes and the lifetimes of their children who were born on or before establishment of the park. The legislation for the Park also directs that livestock trailing be allowed to continue in perpetuity across the Park on traditional courses used by owners and operators of cattle herds prior to December 18, 1971.

Historically, the NPS relied on the Bureau of Land Management to permit and manage livestock grazing in the Park. However, between 2000 and 2010, the NPS assumed sole management responsibility for the two active grazing allotments in the Park. As a result, the NPS is preparing a plan/EIS to provide guidance to the Park and its permit holders to promote the shared conservation and stewardship of the Park's natural resources, ecological processes, and cultural resources while still permitting livestock grazing and trailing in accordance with the Park's enabling legislation. A plan is needed because the park currently lacks a comprehensive approach for managing livestock grazing and trailing in a manner that addresses the potential impacts of these activities on the Park's resources, including plants and animals listed under the Endangered Species Act and cultural resources protected under the National Historic Preservation Act.

The NPS is the lead agency in this planning and EIS process. Other agencies with special expertise have accepted an invitation or requested to be cooperating agencies in the plan and EIS process, including the Bureau of Land Management; Emery County, Utah; Garfield County, Utah; Wayne County, Utah; and the State of Utah.

The Park has already held preliminary discussions with technical specialists from these cooperating and other agencies and its permit holders. Through these discussions, the park has identified potential practices and tools that will be evaluated, along with any others that are identified through the public scoping process, to create alternatives for a long-term livestock grazing and trailing management plan. The practices and tools identified initially range from increased collaboration and communication with permittees, adjacent land managers, and visitors; to phased, adaptive implementation (based on monitoring results for desired resource and range conditions) of constructed improvements (e.g., fencing) and active livestock management practices (e.g., ongoing, “hands-on” management including potential adjustments to timing, duration, intensity, and distribution of grazing and trailing).

The NPS has prepared a scoping newsletter that provides more information regarding the scope of the Livestock Grazing and Trailing Management Plan EIS, including the initial practices and tools under consideration. The newsletter has been distributed to interested parties and will be posted, along with other scoping materials, to the NPS PEPC Web site at http://parkplanning.nps.gov/care_lgtmp_eis.

If you wish to comment during the scoping process, the preferred method for submitting comments is on the NPS PEPC Web site at http://parkplanning.nps.gov/care_lgtmp_eis. You may also mail comments to Capitol Reef National Park at HC 70 Box 15, Torrey, UT 84775, or hand-deliver them to 52 W. Headquarters Drive, Torrey, UT 84775.

Comments will also be accepted during public meetings; however, comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: February 24, 2015.
Sue E. Masica,
Regional Director, Intermountain Region, National Park Service.

[FR Doc. 2015-05976 Filed 3-13-15; 8:45 am]

BILLING CODE 4312-CB-P